DEPARTMENT OF AGRICULTURE

Food and Nutrition Service

Agency Information Collection Activities: Proposed Collection; Comment Request—Food Stamp Program State Agency Options

AGENCY: Food and Nutrition Service, USDA.

ACTION: Notice.

SUMMARY: In accordance with the Paperwork Reduction Act of 1995, this notice invites the general public and other public agencies to comment on proposed information collections. The information collection requirements described in this notice are limited to those which are described in § 273.9(d) and § 273.11(b) of the Noncitizen Eligibility and Certification Provisions final rule (published November 21, 2000 at 65 FR 70133) governing administration of the homeless shelter deduction, establishing and reviewing standard utility allowances, and establishing methodologies for offsetting the cost of producing self-employment income.

DATES: Written comments must be received on or before April 16, 2001.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology. Comments may be sent to Margaret Batko, Assistant Branch Chief, Certification Policy Branch, Program Development Division, Food and Nutrition Service, U.S. Department of Agriculture, 3101 Park Center Drive, Alexandria, VA 22302. Comments may also be faxed to the attention of Ms. Batko at (703) 305-2486. The Internet address is: Margaret.Batko@FNS.USDA.GOV. All written comments will be open for public inspection at the office of the Food and Nutrition Service during regular business hours (8:30 a.m. to 5 p.m., Monday through Friday) at 3101 Park Center Drive, Alexandria, Virginia, 22302, Room 800.

All responses to this notice will be summarized and included in the request for OMB approval. All comments will be a matter of public record.

FOR FURTHER INFORMATION CONTACT: Requests for additional information should be directed to Ms. Batko at (703) 305-2516.

SUPPLEMENTARY INFORMATION: Title: Food Stamp Program State Agency Options.

OMB Number: 0584-0496.

Form Number: None.

Expiration Date: 1/31/01.

Type of Request: Extension of a currently approved information collection, formerly part of OMB 0584-0064. The information was moved to OMB 0584-0496 since the four collections are not related to household case files, as addressed in OMB 0584-0064.

Abstract: The collections covered under OMB Number 0584-0064 address information that will become part of a household's case file. The information collection and burden estimates associated with the following 4 collections, which were previously part of OMB Number 0584-0064, are assigned to OMB Number 0584-0496 because these collections are not related to household files.

1. Homeless shelter estimate—7 CFR 273.9(d): Section 5(e) of the Act, 7 U.S.C. 2014(e)(5), as amended by section 809 of PRWORA, allows State agencies to use a homeless shelter cost estimate as a separate deduction (instead of allowing only the amount that exceeds 50 percent of income under the excess shelter cost deduction). We estimate that 20 State agencies will choose this option and that these States will spend 1 hour updating the estimate for an annual burden of 20 hours. This represents no change from what we anticipated in the previous information collection burden calculations.

2. Establishing and reviewing standard utility allowances—7 CFR 273.9(d): State agencies may establish standard utility allowances to be used in lieu of actual utility costs in determining a deduction from household income for shelter expenses. Currently 52 State agencies have a standard that includes heating or cooling costs and 29 have a standard for utility costs other than heating or cooling. In addition, 43 State agencies have a telephone allowance standard. We also estimate that State agencies will continue to review the standards yearly, although they will no longer be required to do so, to determine if increases are needed due to the cost of living. We estimate a minimum of 2.5 hours annually to make this review and adjustment (2.5 hours × 52 State agencies = 130 hours). Total burden for this provision is estimated to be 130 hours per year. This is a decrease in total hours from the previous burden estimate. In the previous information collection burden assessment, we anticipated 10 State agencies would develop one or more additional standards each year. Currently, we believe the States that would incorporate a new standard, such as the telephone allowance, have already done so. Therefore, we do not anticipate additional standards which would result in additional burden hours.

3. Mandatory utility standards—7 CFR 273.9(d): Section 809 of PRWORA amended Section 5(e)(7)(c) of the Act (7 U.S.C. 2014(e)(7)(c)) to allow State agencies to mandate use of standard utility allowances when the excess shelter cost deduction is computed instead of allowing households to claim actual utility costs provided the standards will not increase program costs. To date, there are 11 State agencies which have selected to mandate the use of standard utility allowances. We do not anticipate additional burden on the State to calculate the standard utility allowance since each of these eleven State agencies is already calculating the standard utility allowance. Therefore, the total annual burden associated with mandatory utility standards is zero.

4. Establishing methodology for offsetting cost of producing self-employment income—7 CFR 273.10. In accordance with Section 5(d)(9) of the Act, 7 U.S.C. 2014(d)(9), the gross amount of self-employment income is reduced by the cost of producing such income. Section 5(m) of the Act, 7 U.S.C. 2014(m), as amended by section 812 of PRWORA, allows State agencies to use a reasonable estimate of self-employment costs rather than actual costs to compute net income from self-employment provided the method will not increase program costs. Requests to use such estimates must be submitted to FNS and must include a description of the proposed method; the number, type and percent of households affected; and documentation indicating that the procedure would not increase Program costs. We estimate that 10 State agencies will submit requests of this type each year for the next three years. It is estimated that these States will incur a one-time burden of at least 10 working hours gathering and analyzing data, developing the methodology, determining the cost implication, and submitting a request to FNS for a total burden of 100 hours annually. State agencies are not required to periodically review their approved methodologies. We do not anticipate that State agencies will voluntarily review their methodologies for change on a regular basis, thus burden is not being assessed for this purpose at this time.

Affected Public: State and local governments.

Estimated Number of Respondents: 53.

Estimated Number of Responses: 93.

Estimated Annual Burden on Respondents: 250.

Dated: February 8, 2001.
George A. Braley,
Acting Administrator, Food and Nutrition Service.

[FR Doc. 01-3820 Filed 2-14-01; 8:45 am]

BILLING CODE 3410-30-P